FEDERAL COMMUNICATIONS COMMISSION

47 CFR Part 73

[DA 10-2280]

Radio Broadcasting Services; Various Locations

AGENCY: Federal Communications Commission.

ACTION: Final rule.

SUMMARY: The Commission amends the Table of FM Allotments to unreserved FM allotments that are reserved for noncommercial educational (NCE) use for Channel *272A at Homer, Louisiana, and Channel *260A at Fountain Green, Utah.

DATES: Effective December 30, 2010.

FOR FURTHER INFORMATION CONTACT: Rolanda F. Smith, Media Bureau, (202) 418-2180.

SUPPLEMENTARY INFORMATION: This is a summary of the Commission's Report and Order, adopted December 1, 2010, and released December 3, 2010. These amendments are necessary to reflect that Channel 272A at Homer, Louisiana, and Channel 260A at Fountain Green, Utah are no longer reserved for NCE use. The full text of this Commission decision is available for inspection and copying during regular business hours at the FCC Reference Information Center, Portals II, 445 12th Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will not send a copy of the Report & Order in this proceeding pursuant to the Congressional Review Act, see 5 U.S.C. 801(a)(1)(A), because the adopted rules are rules of particular applicability.

List of Subjects in 47 CFR Part 73

Radio, Radio broadcasting.

As stated in the preamble, the Federal Communications Commission amends 47 CFR part 73 as follows:

PART 73—RADIO BROADCASTING SERVICES

1. The authority citation for part 73 continues to read as follows:

Authority: 47 U.S.C. 154, 303, 334, 336.

§ 73.202 [Amended]

2. Section 73.202(b), the Table of FM Allotments, is amended as follows:

a. Under Louisiana, the table is amended by removing Channel *272A and by adding Channel 272A at Homer.

b. Under Utah, the table is amended by removing Channel *260A and by adding Channel 260A at Fountain Green.

Federal Communications Commission.
John A. Karousos,
Assistant Chief, Audio Division, Media Bureau.

[FR Doc. 2010-32466 Filed 12-29-10; 8:45 am]

BILLING CODE 6712-01-P